DEPARTMENT OF HOMELAND SECURITY

Coast Guard

33 CFR Part 117

[Docket No. USCG-2016-0674]

Drawbridge Operation Regulation; South Branch of the Elizabeth River, Atlantic Intracoastal Waterway, Chesapeake, VA

AGENCY: Coast Guard, DHS.

ACTION: Notice of deviation from drawbridge regulation.

SUMMARY: The Coast Guard has issued a temporary deviation from the operating schedule that governs the Gilmerton (US13/460) Bridge across the South Branch of the Elizabeth River, mile 5.8, on the Atlantic Intracoastal Waterway, at Chesapeake, VA. This deviation is necessary to avoid bridge failure and perform emergency bridge repairs. This deviation allows the bridge to remain in the closed-to-navigation position.

DATES: This deviation is effective without actual notice from September 16, 2016 through 5 a.m. on September 19, 2016. For the purposes of enforcement, actual notice will be used from September 13, 2016 at 9 a.m., until September 16, 2016.

ADDRESSES: The docket for this deviation, [USCG-2016-0674] is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard, telephone 757-398-6222, email Hal.R.Pitts@uscg.mil.

SUPPLEMENTARY INFORMATION: The City of Chesapeake, that owns and operates the Gilmerton (US13/460) Bridge, across the South Branch of the Elizabeth River, mile 5.8, on the Atlantic Intracoastal Waterway, at Chesapeake, VA, has requested a temporary deviation from the current operating regulations to avoid bridge failure and perform emergency repairs to the bridge due to failure of operating mechanism components, requiring non-standard manual operation of the bridge until repair is completed. The bridge is a vertical lift draw bridge and has a vertical clearance in the closed position of 36 feet above mean high water. The vertical clearance of the bridge in the open-to-navigation position of 136 feet above mean high water will be reduced to approximately 110 feet above mean high water from 9 p.m. on September 16, 2016, through 5 a.m. on September 19, 2016.

The current operating schedule is set out in 33 CFR 117.997(c). Under this temporary deviation, the bridge will remain in the closed-to-navigation position, except for scheduled openings at 9 a.m., noon, 3 p.m. and 7 p.m., Monday through Friday; and 9 a.m. and 3 p.m. on Saturday and Sunday. The scheduled openings at 9 a.m. and 3 p.m. on Saturday and Sunday, September 17, 2016, and September 18, 2016; and emergency openings from 9 p.m. on September 16, 2016, through 5 a.m. on September 19, 2016, will provide a reduced vertical clearance of approximately 110 feet above mean high water.

The South Branch of the Elizabeth River is used by a variety of vessels including U.S. government and public vessels, commercial vessels, tug and barge traffic, and recreational vessels. The Coast Guard has carefully coordinated the restrictions with waterway users in publishing this temporary deviation.

Vessels able to safely pass through the bridge in the closed position may do so at any time. On Saturday and Sunday, September 17, 2016, and September 18, 2016, vessels able to safely pass through the bridge in the closed position should contact the bridge tender to ensure safe passage through the bridge. There is no immediate alternate route for vessels unable to pass through the bridge in the closed position. The bridge will open on signal for emergency vessels, if at least one hour notice is given. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: September 13, 2016.
Hal R. Pitts,
Bridge Program Manager, Fifth Coast Guard District.

[FR Doc. 2016-22320 Filed 9-15-16; 8:45 am]

BILLING CODE 9110-04-P